DEPARTMENT OF TRANSPORTATION

Federal Aviation Administration

14 CFR Part 39

[Docket No. FAA-2013-0611; Directorate Identifier 2013-CE-019-AD]

RIN 2120-AA64

Airworthiness Directives; Beechcraft Corporation Airplanes

AGENCY: Federal Aviation Administration (FAA), DOT.

ACTION: Notice of proposed rulemaking (NPRM).

SUMMARY: We propose to supersede airworthiness directive (AD) 2011-27-51 that applies to certain Beechcraft Corporation Models 1900, 1900C, and 1900D airplanes. AD 2011-27-51 currently requires inspecting the elevator bob-weight and attaching linkage for correct installation and for damage or deformation to the weight and/or weight bracket with corrective action as necessary. Since we issued AD 2011-27-51, a secondary elevator bob-weight stop bolt has been designed. This proposed AD would require installation of the secondary elevator bob-weight stop bolt. The elevator bob-weight (stabilizer weight) traveling past its stop bolt may allow the attaching linkage to move over-center and lead to reduced nose down elevator control, which could result in loss of control. We are proposing this AD to correct the unsafe condition on these products.

DATES: We must receive comments on this proposed AD by September 3, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Beechcraft Corporation at P.O. Box 85, Wichita, Kansas 67201-0085; telephone: (800) 429-5372 or (316) 676-3140; Internet: http://www.beechcraft.com. Beechcraft Corporation publishes service information for the Beechcraft Corporation airplanes affected by this AD action. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Don Ristow, Aerospace Engineer, Wichita ACO, FAA, 1801 Airport Road, Room 100, Wichita, Kansas 67209; telephone: (316) 946-4120; fax: (316) 946-4107; email: donald.ristow@faa.gov.

SUPPLEMENTARY INFORMATION:

Comments Invited

We invite you to send any written relevant data, views, or arguments about this proposed AD. Send your comments to an address listed under the ADDRESSES section. Include “Docket No. FAA-2013-0611; Directorate Identifier 2013-CE-019-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On January 6, 2012, we issued AD 2011-27-51, Amendment 39-16915 (77 FR 2439, January 18, 2012), for certain Hawker Beechcraft Corporation Models 1900, 1900C, and 1900D airplanes. AD 2011-27-51 requires inspecting the elevator bob-weight and attaching linkage for correct installation and for damage or deformation to the weight and/or weight bracket with corrective action as necessary. AD 2011-27-51 resulted from reports of the elevator bob-weight (stabilizer weight) traveling past its stop bolt and allowing the attaching linkage to move over-center, which could lead to reduced nose down elevator control. We issued AD 2011-27-51 to detect and correct conditions that could result in reduced nose down elevator control and loss of control.

Actions Since AD 2011-27-51 Was Issued

Since we issued AD 2011-27-51 (77 FR 2439, January 18, 2012), Beechcraft Corporation designed a secondary elevator bob-weight stop bolt to reduce the possibility of the bob-weight from traveling past the stop bolt.

Relevant Service Information

We reviewed Hawker Beechcraft Corporation Safety Communiqué No. 321, dated December 2011, and Beechcraft Corporation Mandatory Service Bulletin No. SB 27-4119, dated June 2013. The service information describes procedures for inspecting the elevator bob-weight and attaching linkage for correct installation and for damage or deformation to the weight and/or weight bracket. The service information also describes procedures for installing the secondary elevator bob-weight stop bolt, Kit 114-5060.

FAA's Determination

We are proposing this AD because we evaluated all the relevant information and determined the unsafe condition described previously is likely to exist or develop in other products of the same type design.

Proposed AD Requirements

This proposed AD would retain all of the requirements of AD 2011-27-51 (77 FR 2439, January 18, 2012). This proposed AD would also add the requirement to install the secondary elevator bob-weight stop bolt, Kit 114-5060.

Costs of Compliance

We estimate that this proposed AD affects 165 airplanes of U.S. registry.

We estimate the following costs to comply with this proposed AD:

Estimated Costs
Action | Labor cost | Parts cost | Cost per product | Cost on U.S. operators
Inspection of the elevator bob-weight and attaching linkage | 1 work-hour × $85 per hour = $85 | Not applicable | $85 | $14,025
Installation of the secondary elevator bob-weight stop bolt, Kit 114-5060 | 4 work-hours × $85 per hour = $340 | $2,740 | 3,080 | 508,200

The on-condition costs for any corrective action that may be necessary based on the above inspection would vary from airplane to airplane, and we have no way of determining that cost.

The cost of the inspection is a retained cost from AD 2011-27-51 (77 FR 2439, January 18, 2012) and does not add a burden over what was already imposed.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-27-51, Amendment 39-16915 (77 FR 2439, January 18, 2012), and adding the following new AD:

Beechcraft Corporation: Docket No. FAA-2013-0611; Directorate Identifier 2013-CE-019-AD.

(a) Comments Due Date

The FAA must receive comments on this AD action by September 3, 2013.

(b) Affected ADs

This AD supersedes AD 2011-27-51, Amendment 39-16915 (77 FR 2439, January 18, 2012).

(c) Applicability

This AD applies to the following Beechcraft Corporation airplanes, certificated in any category:

Models | Serial Nos.
(1) 1900 | UA-3.
(2) 1900C | UB-1 through UB-74 and UC-1 through UC-174.
(3) 1900C (Military) | UD-1 through UD-6.
(4) 1900D | UE-1 through UE-439.

(d) Subject

Joint Aircraft System Component (JASC)/Air Transport Association (ATA) of America Code 27, Flight Controls.

(e) Unsafe Condition

This AD was prompted by reports of the elevator bob-weight (stabilizer weight) traveling past its stop bolt and allowing the attaching linkage to move over-center, which could lead to reduced nose down elevator control. Also, Beechcraft Corporation designed a secondary elevator bob-weight stop bolt to reduce the possibility of the bob-weight from traveling past the stop bolt. We are issuing this AD to prevent the elevator bob-weight (stabilizer weight) traveling past its stop bolt and allowing the attaching linkage to move over-center and lead to reduced nose down elevator control, which could result in loss of control.

(f) Compliance

Comply with this AD within the compliance times specified, unless already done. Paragraph (g) of this AD only applies to airplanes where the inspection required by AD 2011-27-51 (77 FR 2439, January 18, 2012) has not been done.

(g) Retained Inspections

Within the next 10 hours time-in-service (TIS) after January 18, 2012 (the effective date of AD 2011-27-51 (77 FR 2439, January 18, 2012)), inspect the elevator bob-weight installation for the following conditions specified in paragraphs (g)(1) through (g)(4) in this AD. Use Hawker Beechcraft Corporation Safety Communiqué No. 321, dated December 2011 (which is incorporated by reference in AD 2011-27-51).

(1) The correct positioning of the elevator control column link assembly, (part number (P/N) 101-524112-1 (1900/1900C) or P/N 101-524112-5 (1900D)). With the elevator control column in the full nose down position (control column forward), the link must form an angle between the link attachment point at the control column and the bell crank pivot point as shown in the Hawker Beechcraft Corporation Safety Communiqué photo labeled “Correct Link Orientation.” The link should be trailing aft from the control column assembly.

Note 1 to paragraphs (g)(1) and (g)(2) of this AD: The term “nose down” corresponds to the airplane nose down, down elevator, and control column forward position as used in this AD and Hawker Beechcraft Corporation Safety Communiqué No. 321, dated December 2011.

(2) The clearance of the bob-weight stop bolt. With the elevator control column in the full nose down position (control column forward), the stabilizer weight stop bolt must have positive clearance with the face of the stabilizer weight.

(3) The condition of the bob-weight and alignment with the stop bolt. Inspect for evidence of scraping along either side of the weight by the stop bolt. With side pressure applied by hand to the stabilizer weight, no part of the stop bolt should protrude beyond the face of the stabilizer weight on either edge.

(4) The condition of the bob-weight support bracket. Inspect for evidence of damage or deformation by contact with the weight assembly.

(h) Installation of Kit 114-5060

Within the next 600 hours TIS after the effective date of this AD, install the secondary elevator bob-weight stop bolt, Kit 114-5060, following Beechcraft Corporation Mandatory Service Bulletin No. SB 27-4119, dated June 2013.

(i) Corrective Actions

If any discrepancies are found during the inspection required in paragraph (g) of this AD, including all subparagraphs, and during the installation required in paragraph (h) of this AD, before further flight, contact Beechcraft Corporation Technical Support. If a deviation from FAA-approved type design is required, then request an alternative method of compliance (AMOC) as described in paragraph (j) of this AD. You may contact Beechcraft Technical Support by telephone at (800) 429-5372 or (316) 676-3140.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 2011-27-51 (77 FR 2439, January 18, 2012) are approved as AMOCs for the corresponding provisions of this AD.

(k) Related Information

(1) For more information about this AD, contact Don Ristow, Aerospace Engineer, Wichita ACO, FAA, 1801 Airport Road, Room 100, Wichita, Kansas 67209; telephone: (316) 946-4120; fax: (316) 946-4107; email: donald.ristow@faa.gov.

(2) For service information identified in this AD, contact Beechcraft Corporation at P.O. Box 85, Wichita, Kansas 67201-0085; telephone: (800) 429-5372 or (316) 676-3140; Internet: http://www.beechcraft.com. Beechcraft Corporation publishes service information for the Beechcraft Corporation airplanes affected by this AD action. You may review copies of the referenced service information at the FAA, Small Airplane Directorate, 901 Locust, Kansas City, Missouri 64106. For information on the availability of this material at the FAA, call (816) 329-4148.

Issued in Kansas City, Missouri, on July 11, 2013.
John Colomy,
Acting Manager, Small Airplane Directorate, Aircraft Certification Service.

[FR Doc. 2013-17146 Filed 7-16-13; 8:45 am]

BILLING CODE 4910-13-P